DEPARTMENT OF COMMERCE

National Oceanic and Atmospheric Administration

50 CFR Part 622

[RTID 0648-XB046]

Fisheries of the Caribbean, Gulf of Mexico, and South Atlantic; Reef Fish and Red Drum Fisheries of the Gulf of Mexico; Amendments 48/5

AGENCY: National Marine Fisheries Service (NMFS), National Oceanic and Atmospheric Administration (NOAA), Commerce.

ACTION: Notice of Agency decision.

SUMMARY: NMFS announces the approval of Amendment 48 to the Fishery Management Plan (FMP) for Reef Fish Resources of the Gulf of Mexico and Amendment 5 to the FMP for the Red Drum Fishery of the Gulf of Mexico (Amendments 48/5), which are combined in a single document as submitted by the Gulf of Mexico (Gulf) Fishery Management Council (Gulf Council). Amendments 48/5 establish or modify maximum sustainable yield (MSY) proxies, maximum fishing mortality thresholds (MFMTs), minimum stock size thresholds (MSSTs), and optimum yield (OY) for stocks in the Reef Fish and Red Drum FMPs. The need for this action is to have biological reference points that can be used for determining status of the stocks or stock complexes consistent with the requirements of the Magnuson-Stevens Fishery Conservation and Management Act (Magnuson-Stevens Act).

DATES: The amendment was approved June 3, 2022.

ADDRESSES: Electronic copies of Amendments 48/5 may be obtained from www.regulations.gov or the Southeast Regional Office website at http://sero.nmfs.noaa.gov. Amendments 48/5 include an environmental assessment and fishery impact statement.

FOR FURTHER INFORMATION CONTACT: Peter Hood, NMFS Southeast Regional Office, telephone: 727-824-5305, or email: peter.hood@noaa.gov.

SUPPLEMENTARY INFORMATION: NMFS and the Gulf Council manage the Gulf reef fish fishery and the red drum fishery under the respective FMPs. The Gulf Council prepared the FMPs and NMFS implements the FMPs through regulations at 50 CFR part 622 under the authority of the Magnuson-Stevens Act. Amendments 48/5 were prepared by the Gulf Council and will be incorporated into the management of Gulf reef fish and red drum through the respective FMPs.

Background

On March 9, 2022, NMFS published a notice of availability (NOA) for Amendments 48/5 and requested public comment (87 FR 13274). NMFS did not receive any public comments on the NOA.

The Magnuson-Stevens Act and the National Standard 1 Guidelines require that FMPs specify a number of reference points for managed fish stocks, including maximum sustainable yield (MSY) or MSY proxy, and optimum yield, as well as status determination criteria (SDC), including an MFMT or an overfishing limit (OFL), and an MSST. These SDC represent the point at which a stock is determined to be overfished (i.e., below MSST) or experiencing overfishing (i.e., above MFMT or OFL). In 1999, the Gulf Council submitted the Generic Sustainable Fisheries Act (SFA) Amendment, which proposed definitions of MSY, OY, MFMT, and MSST for all reef fish stocks. NMFS approved most of the MFMT criteria, but disapproved all of the definitions for MSY, OY, and MSST because they were not based on biomass.

While NMFS refers to the document as “Amendments 48/5” in this notice of Agency decision, each amendment applies separately to the stocks in the respective FMPs. Amendment 5 applies to the red drum stock. Amendment 48 applies to several reef fish stocks and stock complexes that either have not been assessed or were assessed but still require stock status determinations.

These include: cubera snapper, lane snapper, goliath grouper, the shallow-water grouper complex (scamp, black grouper, yellowmouth grouper, and yellowfin grouper), the deep-water grouper complex (yellowedge grouper, warsaw grouper, snowy grouper, and speckled hind), the tilefish complex (golden tilefish, blueline tilefish, and goldface tilefish), the jacks complex (lesser amberjack, almaco jack, and banded rudderfish), and the mid-water snapper complex (wenchman, silk snapper, blackfin snapper, and queen snapper). Amendments 48/5 also addresses four reef fish stocks that have been assessed and have known stock status determinations: hogfish, mutton snapper, yellowtail snapper, and black grouper. Amendment 43 to the Reef Fish FMP established references points and SDC for hogfish. However, OY for hogfish was not defined there and is addressed in Amendments 48/5. Mutton snapper, yellowtail snapper, and black grouper, which occur in both the Gulf Council and South Atlantic Fishery Management Council areas of jurisdiction but are managed separately under each Council's FMPs, have reference points and SDC specified in the South Atlantic Snapper-Grouper FMP, but not in the Gulf Reef Fish FMP. With respect to black grouper, that species is managed by the South Atlantic Council as a single stock but is managed by the Gulf Council as part of the shallow-water grouper complex.

The NOA includes a detailed description of the biological references points and status determination criteria established in Amendments 48/5. A summary is provided below.

Maximum Sustainable Yield

The MSY is the largest long-term average catch or yield that can be taken from a stock or stock complex under prevailing ecological, environmental conditions and fishery technological characteristics (e.g., gear selectivity), and the distribution of catch among fleets. However, the actual MSY can rarely be estimated with certainty because of the difficulty in accurately estimating the relationship between the size of the spawning stock and the subsequent annual recruitment. As a result, proxies for MSY are typically used because they are easier to measure. Generally, MSY proxies used for fish species in the Gulf are based on some percentage of spawning potential ratio (SPR) and are expressed as the yield when fishing at FPROXY (where F is fishing mortality rate). In using SPR, NMFS assumes that a certain amount of fish must survive and spawn in order to replenish the stock, thus SPR represents the average number of eggs per fish over its lifetime when the stock is fished, compared to the average number of eggs per fish over its lifetime when the stock is not fished.

For reef fish stocks and stock complexes with the exception of goliath grouper, the MSY proxy selected by the Gulf Council is the yield when fishing at F30% SPR. For goliath grouper, the Gulf Council selected a more conservative MSY proxy because this species is more vulnerable to overfishing because of its long life-span and slow growth rate. The goliath grouper MSY proxy is the yield when fishing at F40% SPR.

The harvest of red drum is prohibited in Federal waters, but fishing is allowed in state waters under management measures developed by the respective Gulf state marine fisheries agencies. These agencies manage the stock to achieve a 30 percent escapement rate from state to Federal waters. Thus, Amendment 5 defines the red drum MSY proxy as the yield that provides for an escapement rate of juvenile fish to the spawning stock biomass (SSB) equivalent to 30 percent of those that would have escaped had there been no inshore state-waters fishery.

Amendments 48/5 also adopt a streamlined procedure for future specification of the MSY proxies for reef fish stocks and red drum that will allow the Gulf Council to adopt an MSY proxy recommended by the SSC by including a discussion of the change in a plan amendment. If the Gulf Council chooses to use this procedure, which would not include the consideration of alternatives to the MSY proxy recommended by the SSC, NMFS expects the Gulf Council to document its rationale for that decision. If more than one MSY proxy is supported by the best scientific information available, NMFS expects the Gulf Council to provide an appropriate analysis of these alternatives.

Maximum Fishing Mortality Thresholds

MFMT is the rate of fishing mortality above which a stock is experiencing overfishing. To keep MFMT consistent with the proposed MSY proxies, Amendments 48/5 set this threshold for the relevant stocks equal to the F at the MSY proxy for each stock or stock complex as discussed above.

Minimum Stock Size Thresholds

The MSST is a biomass reference point that measures how many fish are left in the water rather than how many fish are caught, and determines at what biomass level a stock or stock complex is overfished. The MSST can be specified in terms of pounds of fish, numbers of fish, or the expected egg production from the SSB of the adult stock. The long-term average size of a stock that results from harvesting at MSY is called the biomass at MSY (BMSY). The MSST is generally set at some level below BMSY, but cannot be set lower than 50 percent of BMSY. The greater the difference between BMSY and MSST, the less likely a stock is to be declared overfished, but the more difficult it may be to rebuild the stock back to BMSY should the stock size fall below MSST.

In Amendments 48/5 the Gulf Council set MSST at 0.75*BMSY (or proxy) for all of the stocks and stock complexes for which the Council also established an MSY and MFMT. The Gulf Council also considered and selected an additional alternative that would apply only to those individual stocks that span both the South Atlantic and Gulf Councils' areas of jurisdiction and would set MSST consistent with the MSST specified by the South Atlantic Council. These stocks are goliath grouper, black grouper, mutton snapper, and yellowtail snapper. The MSST specified by the South Atlantic Council is 0.75*BMSY (or proxy) for black grouper, mutton snapper, and yellowtail snapper, and (1-M)*BMSY (or proxy) for goliath grouper.

As discussed previously, and unlike the South Atlantic Council, the Gulf Council manages black grouper as part of the shallow water grouper complex, not as a single stock. Therefore, although black grouper was included in preferred alternative 5 that addressed the other three stocks that span both the South Atlantic and Gulf Councils' areas of jurisdiction, Amendment 48 does not consider specifying an MSY for black grouper as a single stock. Instead, consistent with the Gulf Council's current management of this stock, Amendment 48 specifies an MSY for the entire shallow-water grouper complex, which includes black grouper.

NMFS is approving the MSST for the shallow-water grouper complex as well as the MSST for black grouper, both of which are specified in Amendment 48 as 0.75*BMSY (or proxy). However, because Amendment 48 did not establish an MSY or MFMT for black grouper, NMFS encourages the Gulf Council to do so. Having the complete suite of biological reference points and SDC for black grouper in both the South Atlantic and Gulf FMPs would help inform the next stock assessment, which is scheduled to be complete in 2025.

Optimum Yield

Amendment 48 sets set OY at 90 percent of the MSY or MSY proxy for all reef fish stocks addressed in the amendment with the exception of goliath grouper. For goliath grouper, the Council set OY at zero, which reflects that harvest is prohibited.

For red drum, the Gulf Council decided to keep the existing OY definition, which is based on a 1987 SEFSC stock assessment that concluded under certain escapement rates of juveniles, the stock could rebuild. This OY definition is: (1) all red drum commercially and recreationally harvested from Gulf state waters landed consistent with state laws and regulations under a goal of allowing 30 percent escapement of the juvenile population; and (2) all red drum commercially or recreationally harvested from the Primary Area (Louisiana, Mississippi, and Alabama) of the exclusive economic zone (EEZ) under the total allowable catch (TAC) level and allocations specified under the provisions of the Red Drum FMP, and a zero-retention level from the Secondary Areas (Florida and Texas) of the EEZ. The red drum TAC for the Gulf EEZ has been zero since 1988 with the implementation of Amendment 2 to the Red Drum FMP and harvest in the EEZ is prohibited (53 FR 34662; June 29, 1988). Therefore, to achieve the OY, the Gulf states have independently and cooperatively implemented red drum regulations to achieve a 30 percent or greater escapement rate to the spawning stocks for each year class.

Procedural Aspects of Amendments 48/5

Because none of the measures included in the amendments involve regulatory changes, no proposed or final rule was prepared. The provisions of Amendments 48/5 are not specified in Federal regulations but are considered an amendment to the respective FMPs.

Comments and Responses

NMFS did not receive any public comments on the NOA, either in favor of, or in opposition to approving Amendments 48/5. There have been no changes to Amendments 48/5 based on NOA public comment.

Authority: 16 U.S.C. 1801 et seq.

Dated: June 3, 2022.
Samuel D. Rauch, III,
Deputy Assistant Administrator for Regulatory Programs, National Marine Fisheries Service.

[FR Doc. 2022-12339 Filed 6-7-22; 8:45 am]

BILLING CODE 3510-22-P